DEPARTMENT OF LABOR

Employment and Training Administration

[TA-W-39,884 and TA-W-39,884A]

VF Playwear, Inc., Centreville, Alabama, and VF Playwear, Inc., Corporate Headquarters, Greensboro, North Carolina; Amended Certification Regarding Eligibility To Apply for Worker Adjustment Assistance

In accordance with section 223 of the Trade Act of 1974 (19 U.S.C. 2273) the Department Labor issued a Certification of Eligibility to Apply for Worker Adjustment Assistance on November 5, 2001, applicable to workers of VF Playwear, Inc., Centreville, Alabama. The notice was published in the Federal Register on November 20, 2001 (66 FR 58171).

At the request of the company, the Department reviewed the certification for workers of the subject firm. The workers are engaged in the production of children's playwear.

The company reports that worker separations occurred at the Corporate Headquarters, Greensboro, North Carolina location of the subject firm. The Corporate Headquarters provides administrative support functions to the subject firms' many production facilities including Centreville, Alabama.

The intent of the Department's certification is to include all workers of VF Playwear, Inc. who were adversely affected by increased imports.

Accordingly, the Department is amending the certification to cover workers of VF Playwear, Inc., Corporate Headquarters, The amended notice applicable to TA-W-39,884 is hereby issued as follows:

“All workers of VF Playwear, Inc., Centreville, Alabama (TA-W-39,884) and VF Playwear, Inc., Corporate Headquarters, Greensboro, North Carolina (TA-W-39,884A) who became totally or partially separated from employment on or after August 2, 2000, through November 5, 2003, are eligible to apply for adjustment assistance under Section 223 of the Trade Act of 1974.”

Signed at Washington DC, this 23rd day of April, 2002.
Linda G. Poole,
Certifying Officer, Division of Trade Adjustment Assistance.

[FR Doc. 02-13933 Filed 6-3-02; 8:45 am]

BILLING CODE 4510-30-P